DEPARTMENT OF ENERGY

Federal Energy Regulatory Commission

Combined Notice of Filings #1

Take notice that the Commission received the following exempt wholesale generator filings:

Docket Numbers: EG23-281-000.

Applicants: Castle Solar, LLC.

Description: Castle Solar, LLC submits Notice of Self-Certification of Exempt Wholesale Generator Status.

Filed Date: 9/12/23.

Accession Number: 20230912-5057.

Comment Date: 5 p.m. ET 10/3/23.

Docket Numbers: EG23-282-000.

Applicants: Elektron Solar, LLC.

Description: Elektron Solar, LLC submits Notice of Self-Certification of Exempt Wholesale Generator Status.

Filed Date: 9/12/23.

Accession Number: 20230912-5058.

Comment Date: 5 p.m. ET 10/3/23.

Docket Numbers: EG23-283-000.

Applicants: Horseshoe Solar, LLC.

Description: Horseshoe Solar, LLC submits Notice of Self-Certification of Exempt Wholesale Generator Status.

Filed Date: 9/12/23.

Accession Number: 20230912-5060.

Comment Date: 5 p.m. ET 10/3/23.

Docket Numbers: EG23-284-000.

Applicants: Rocket Solar, LLC.

Description: Rocket Solar, LLC submits Notice of Self-Certification of Exempt Wholesale Generator Status.

Accession Number: 20230912-5062.

Comment Date: 5 p.m. ET 10/3/23.

Docket Numbers: EG23-285-000.

Applicants: Moraine Sands Wind Power, LLC.

Description: Moraine Sands Wind Power, LLC submits Notice of Self-Certification of Exempt Wholesale Generator Status.

Filed Date: 9/12/23.

Accession Number: 20230912-5085.

Comment Date: 5 p.m. ET 10/3/23.

Take notice that the Commission received the following electric rate filings:

Docket Numbers: ER21-445-004.

Applicants: Hill Top Energy Center LLC.

Description: Compliance filing: Revised MBR Tariff Update to be effective 9/13/2023.

Filed Date: 9/12/23.

Accession Number: 20230912-5000.

Comment Date: 5 p.m. ET 10/3/23.

Docket Numbers: ER23-2382-001.

Applicants: Boomtown Solar Energy LLC.

Description: Compliance filing: Market-Based Rate Tariff Record Corrective Filing to be effective 9/12/2023.

Filed Date: 9/12/23.

Accession Number: 20230912-5090.

Comment Date: 5 p.m. ET 9/22/23.

Docket Numbers: ER23-2407-000.

Applicants: Strauss Wind, LLC.

Description: Supplement to July 14, 2023 Strauss Wind, LLC tariff filing.

Filed Date: 9/11/23.

Accession Number: 20230911-5117.

Comment Date: 5 p.m. ET 9/25/23.

Docket Numbers: ER23-2813-000.

Applicants: Castle Solar, LLC.

Description: Baseline eTariff Filing: Application for Market-Based Rate Authority to be effective 11/12/2023.

Filed Date: 9/12/23.

Accession Number: 20230912-5046.

Comment Date: 5 p.m. ET 10/3/23.

Docket Numbers: ER23-2814-000.

Applicants: Elektron Solar, LLC.

Description: Baseline eTariff Filing: Application for Market-Based Rate Authority to be effective 11/12/2023.

Filed Date: 9/12/23.

Accession Number: 20230912-5047.

Comment Date: 5 p.m. ET 10/3/23.

Docket Numbers: ER23-2815-000.

Applicants: Horseshoe Solar, LLC.

Description: Baseline eTariff Filing: Application for Market-Based Rate Authority to be effective 11/12/2023.

Filed Date: 9/12/23.

Accession Number: 20230912-5048.

Comment Date: 5 p.m. ET 10/3/23.

Docket Numbers: ER23-2816-000.

Applicants: Rocket Solar, LLC.

Description: Baseline eTariff Filing: Application for Market-Based Rate Authority to be effective 11/12/2023.

Filed Date: 9/12/23.

Accession Number: 20230912-5049.

Comment Date: 5 p.m. ET 10/3/23.

Docket Numbers: ER23-2817-000.

Applicants: Scout Clean Energy, LLC.

Description: Petition for Limited Waiver of Scout Clean Energy, LLC.

Filed Date: 9/11/23.

Accession Number: 20230911-5162.

Comment Date: 5 p.m. ET 10/2/23.

Docket Numbers: ER23-2818-000.

Applicants: Pacific Gas and Electric Company.

Description: § 205(d) Rate Filing: Second Amendment to SMUD Fringe Area Service Agreement (RS 244) to be effective 11/12/2023.

Filed Date: 9/12/23.

Accession Number: 20230912-5069.

Comment Date: 5 p.m. ET 10/3/23.

Docket Numbers: ER23-2819-000.

Applicants: PJM Interconnection, L.L.C.

Description: Tariff Amendment: Notice of Cancellation of WMPAs, SA Nos. 6558-6569; Queue No. AD2-059 Re: Breach to be effective 11/13/2023.

Filed Date: 9/12/23.

Accession Number: 20230912-5075.

Comment Date: 5 p.m. ET 10/3/23.

Docket Numbers: ER23-2820-000.

Applicants: Alabama Power Company, Georgia Power Company, Mississippi Power Company.

Description: § 205(d) Rate Filing: Alabama Power Company submits tariff filing per 35.13(a)(2)(iii: Laurens Solar I LGIA Filing to be effective 9/6/2023.

Filed Date: 9/12/23.

Accession Number: 20230912-5081.

Comment Date: 5 p.m. ET 10/3/23.

Docket Numbers: ER23-2821-000.

Applicants: Entergy Louisiana, LLC, Entergy Mississippi, LLC, Entergy New Orleans, LLC, Entergy Texas, Inc., Entergy Arkansas, LLC.

Description: § 205(d) Rate Filing: Entergy Louisiana, LLC submits tariff filing per 35.13(a)(2)(iii: Unit Power Sales and Designated Power Purchase Tariff Amendment to be effective 9/12/2023.

Filed Date: 9/12/23.

Accession Number: 20230912-5088.

Comment Date: 5 p.m. ET 10/3/23.

Docket Numbers: ER23-2822-000.

Applicants: Tri-State Generation and Transmission Association, Inc.

Description: § 205(d) Rate Filing: Initial Filing of Rate Schedule FERC No. 359—United Withdrawal Agreement to be effective 11/12/2023.

Filed Date: 9/12/23.

Accession Number: 20230912-5091.

Comment Date: 5 p.m. ET 10/3/23.

Docket Numbers: ER23-2823-000.

Applicants: Midcontinent Independent System Operator, Inc., Ameren Services Company.

Description: § 205(d) Rate Filing: Midcontinent Independent System Operator, Inc. submits tariff filing per 35.13(a)(2)(iii: 2023-09-12_SA 2011 Ameren-Centralia 2nd Rev WDS to be effective 12/1/2023.

Filed Date: 9/12/23.

Accession Number: 20230912-5100.

Comment Date: 5 p.m. ET 10/3/23.

Take notice that the Commission received the following qualifying facility filings:

Docket Numbers: QF23-1254-000.

Applicants: Western Sugar Cooperative.

Description: Form 556 of Western Sugar Cooperative.

Filed Date: 9/8/23.

Accession Number: 20230908-5191.

Comment Date: 5 p.m. ET 9/29/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 12, 2023.
Debbie-Anne A. Reese,
Deputy Secretary.

[FR Doc. 2023-20117 Filed 9-15-23; 8:45 am]

BILLING CODE 6717-01-P